DEPARTMENT OF COMMERCE

International Trade Administration

[A-570-900]

Diamond Sawblades and Parts Thereof From the People's Republic of China: Final Results of Antidumping Duty Administrative Review and Final Determination of No Shipments; 2019-2020

AGENCY: Enforcement and Compliance, International Trade Administration, Department of Commerce.

SUMMARY: The Department of Commerce (Commerce) determines that diamond sawblades and parts thereof (diamond sawblades) from the People's Republic of China (China) were sold at less than normal value by certain exporters during the period of review (POR) November 1, 2019, through October 31, 2020.

DATES: Applicable November 30, 2021.

FOR FURTHER INFORMATION CONTACT: Allison Hollander, AD/CVD Operations, Office I, Enforcement and Compliance, International Trade Administration, U.S. Department of Commerce, 1401 Constitution Avenue NW, Washington, DC 20230; telephone: (202) 482-2805.

SUPPLEMENTARY INFORMATION:

Background

On August 2, 2021, Commerce published in the Federal Register the preliminary results of the 2019-2020 administrative review of the antidumping duty order on diamond sawblades from China.¹ We invited interested parties to comment on the Preliminary Results and we received a case brief on behalf of Husqvarna (Hebei) Co., Ltd. (Husqvarna) ² and comments submitted by the Diamond Sawblades Manufacturers' Coalition (DSMC).³ On September 1, 2021, Husqvarna requested that Commerce conduct a hearing and subsequently, on September 24, 2021, withdrew its request for a hearing.⁴ The administrative review covers 53 companies, inclusive of the two mandatory respondents, Jiangsu Fengtai Single Entity (Jiangsu Fengtai) and Zhejiang Wanli Tools Group Co., Ltd. (Zhejiang Wanli).⁵ For a complete description of the events that occurred since the Preliminary Results, see the Issues and Decision Memorandum.⁶

¹ See Diamond Sawblades and Parts Thereof from the People's Republic of China: Preliminary Results of Antidumping Duty Administrative Review and Preliminary Determination of No Shipments; 2019-2020, 86 FR 41446 (August 2, 2021) (Preliminary Results), and accompanying Preliminary Decision Memorandum.

² See Husqvarna's Letter, “Diamond Sawblades and Parts Thereof from China: Case Brief,” dated September 1, 2021.

³ See DSMC's Letter, “Diamond Sawblades and Parts Thereof from the People's Republic of China: Letter in Lieu of Case Brief,” dated September 1, 2021 (DSMC Letter).

⁴ See Husqvarna's Letters, “Diamond Sawblades and Parts Thereof from China: Request for Hearing,” dated September 1, 2021; and “Diamond Sawblades and Parts Thereof from China: Withdrawal of Hearing Request,” dated September 24, 2021.

⁵ See Memorandum, “Antidumping Duty Administrative Review of Diamond Sawblades and Parts Thereof from the People's Republic of China Administrative Review 2019-2020: Respondent Selection,” dated March 2, 2021.

⁶ See Memorandum, “Diamond Sawblades and Parts Thereof from the People's Republic of China: Decision Memorandum for the Final Results of the Antidumping Duty Administrative Review and Final Determination of No Shipments; 2019-2020,” dated concurrently with, and hereby adopted by, this notice (Issues and Decision Memorandum).

Scope of the Order

The products covered by this order ⁷ are diamond sawblades. A full description of the scope of the Order is contained in the Issues and Decision Memorandum.

⁷ See Diamond Sawblades and Parts Thereof from the People's Republic of China and the Republic of Korea: Antidumping Duty Orders, 74 FR 57145 (November 4, 2009) (Order).

Analysis of Comments Received

All issues raised in the case and rebuttal briefs filed by interested parties in this review are addressed in the Issues and Decision Memorandum. A list of the issues that parties raised and to which we responded in the Issues and Decision Memorandum follows as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Determination of No Shipments

In the Preliminary Results, we preliminarily determined that five companies, Bosun Tools Co., Ltd., Chengdu Huifeng New Material Technology Co., Ltd., Danyang Weiwang Tools Manufacturing Co., Ltd., Weihai Xiangguang Mechanical Industrial Co., Ltd., and Wuhan Wanbang Laser Diamond Tools Co., Ltd., which have been eligible for separate rates in previous segments of the proceeding and are subject to this review, did not have any shipments of subject merchandise during the POR.⁸ No party commented on the Preliminary Results regarding our no-shipments determination with respect to these five companies. Therefore, for the final results of review, we continue to find that these companies did not have any shipments of subject merchandise during the POR and will issue appropriate instructions to CBP based on these final results.

⁸ See the “Separate Rates” section of the Preliminary Decision Memorandum.

In the Preliminary Results, based on information on the record, we preliminarily found that Husqvarna had entries of subject merchandise during the POR. Further, because it did not file a separate rate application or separate rate certification (SRC), we preliminarily considered Husqvarna to be part of the China-wide entity. Based on additional information placed on the record since the Preliminary Results, we find that Husqvarna did not have any shipments of subject merchandise during the POR ⁹ and therefore, we will issue appropriate instructions to CBP based on the final results of review.

⁹ See Issues and Decision Memorandum at Comment 1.

Changes Since the Preliminary Results

Based on a review of the record and comments received from Husqvarna and DSMC regarding our Preliminary Results, and for the reasons explained in the Issues and Decision Memorandum, for the final results of review, we made a change to the margin assigned to Xiamen ZL Diamond Technology Co., Ltd. (Xiamen ZL) and determined that Husqvarna had no shipments during the POR. For a discussion of the above-referenced changes, see the “Changes Since the Preliminary Results” section of the Issues and Decision Memorandum.

Separate Rate for Non-Selected Company

In the Preliminary Results, we found that evidence provided by one respondent, Xiamen ZL, supported finding an absence of both de jure and de facto government control, and, therefore, we preliminarily granted a separate rate to this company.¹⁰ Since the issuance of the Preliminary Results, we received comments from DSMC regarding Xiamen ZL's separate rate eligibility.¹¹ However, for the final results of review, we continue to find that Xiamen ZL is eligible to receive a separate rate in this review. For further discussion, see the Issues and Decision Memorandum.

¹⁰ See Preliminary Results Preliminary Decision Memorandum at 6-7.

¹¹ See DSMC Letter.

In the Preliminary Results, because we denied the separate rate eligibility for the two respondents selected for individual examination, Jiangsu Fengtai and Zhejiang Wanli, and treated them as part of the China-wide entity, we preliminarily applied to the non-selected respondent the separate rate assigned to eligible respondents in the last completed administrative review, which at the time was 0.00 percent.¹² However, since the Preliminary Results, Commerce issued the final results of the 2018-2019 administrative review of diamond sawblades from China.¹³ Thus, for the final results of review, we find it appropriate to assign the separate rate assigned to eligible respondents in the 2018-2019 Final Results (currently the most recently completed administrative review) as the dumping margin for the non-selected separate rate respondent, i.e., 41.03 percent.

¹² See Preliminary Results Preliminary Decision Memorandum at 7.

¹³ See Diamond Sawblades and Parts Thereof from the People's Republic of China: Final Results of Antidumping Duty Administrative Review; 2018-2019, 86 FR 46823 (August 20, 2021).

China-Wide Entity

As stated in the Preliminary Results, because no party requested a review of the China-wide entity in this review, the entity is not under review, and the entity's rate (i.e., 82.05 percent) is not subject to change.¹⁴ Aside from the no-shipment and separate rate companies discussed above, Commerce considers all other companies for which a review was requested (which did not file a separate rate application) listed in Appendix II to this notice, to be part of the China-wide entity.¹⁵ Additionally, as discussed above, because we denied separate rate eligibility for Jiangsu Fengtai and Zhejiang Wanli, these two companies are also part of the China-wide entity.

¹⁴ See, e.g., Diamond Sawblades and Parts Thereof from the People's Republic of China; Final Results of Antidumping Duty Administrative Review; 2012-2013, 80 FR 32344, 32345 (June 8, 2015).

¹⁵ See Initiation of Antidumping and Countervailing Duty Administrative Reviews, 83 FR 1329, 1331-32 (January 11, 2018) (“All firms listed below that wish to qualify for separate rate status in the administrative reviews involving NME countries must complete, as appropriate, either a separate rate application or certification, as described below.”); see also Appendix II for the list of companies that are subject to this administrative review that are considered to be part of the China-wide entity.

Final Results of the Administrative Review

Commerce determines that the following weighted-average dumping margin exists for the administrative review covering the period November 1, 2019, through October 31, 2020:

Exporters: Separate rate applicable to the following non-selected companies | Weighted- average dumping margin (percent)
Xiamen ZL Diamond Technology Co., Ltd | 41.03

Disclosure

Normally, Commerce discloses to interested parties the calculations performed in connection with the final results of a review within five days of any public announcement or, if there is no public announcement, within five days of the date of publication of the notice of final results in the Federal Register, in accordance with 19 CFR 351.224(b). However, because Commerce denied the separate rate eligibility for the two respondents selected for individual examination and treated them as part of the China-wide entity, there are no calculations to disclose.

Assessment Rates

Pursuant to section 751(a)(2)(A) of the Act and 19 CFR 351.212(b), Commerce has determined, and U.S. Customs and Border Protection (CBP) shall assess, antidumping duties on all appropriate entries of subject merchandise in accordance with the final results of this review.¹⁶ Commerce intends to issue assessment instructions to CBP no earlier than 35 days after the date of publication of these final results of this review in the Federal Register. If a timely summons is filed at the U.S. Court of International Trade, the assessment instructions will direct CBP not to liquidate relevant entries until the time for parties to file a request for a statutory injunction has expired (i.e., within 90 days of publication).

¹⁶ See 19 CFR 351.212(b)(1).

For the non-selected respondent that received a separate rate, Xiamen ZL, we will instruct CBP to apply an antidumping duty assessment rate of 41.03 percent to all entries of subject merchandise that entered the United States during the POR. For the six companies that we determined had no reviewable entries of the subject merchandise in this review period, any suspended entries that entered under that exporter's case number (i.e., at that exporter's rate) will be liquidated at the China-wide rate, 82.05 percent. For entries of subject merchandise during the POR which were exported by the companies listed in Appendix II of this notice, we will instruct CBP to apply the antidumping duty assessment rate of the China-wide entity to all entries of subject merchandise exported by these companies.

Cash Deposit Requirements

The following cash deposit requirements will be effective upon publication of the final results of this review for shipments of the subject merchandise from China entered, or withdrawn from warehouse, for consumption on or after the publication date, as provided by section 751(a)(2)(C) of the Act: (1) For subject merchandise exported by the company listed above that has a separate rate, the cash deposit rate will be the rate established in these final results of review for the exporter as listed above; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Order (APO)

This notice also serves as a reminder to parties subject to APO of their responsibility concerning the return or destruction of proprietary information disclosed under APO in accordance with 19 CFR 351.305. Timely written notification of the return or destruction of APO materials, or conversion to judicial protective order, is hereby requested. Failure to comply with the regulations and terms of an APO is a violation subject to sanction.

Notification to Interested Parties

Commerce is issuing and publishing the final results of this review in accordance with sections 751(a)(1) and 777(i)(1) of the Act, and 19 CFR 351.221(b)(5).

Dated: November 23, 2021.
James Maeder,
Deputy Assistant Secretary for Antidumping and Countervailing Duty Operations.

Appendix I

List of Topics Discussed in the Preliminary Decision Memorandum

I. Summary

II. Background

III. Scope of the Order

IV. Changes Since the Preliminary Results

V. Discussion of the Issues

VI. Recommendation

Appendix II

Companies that are subject to this administrative review that are considered to be part of the China-wide entity are:

1. ASHINE Diamond Tools Co., Ltd.

2. Danyang City Ou Di Ma Tools Co., Ltd.

3. Danyang Hantronic Import & Export Co., Ltd.

4. Danyang Huachang Diamond Tools Manufacturing Co., Ltd.

5. Danyang Like Tools Manufacturing Co., Ltd.

6. Danyang NYCL Tools Manufacturing Co., Ltd.

7. Danyang Tongyu Tools Co., Ltd.

8. Danyang Tsunda Diamond Tools Co., Ltd.

9. Diamond Tools Technology (Thailand) Co., Ltd.

10. Fujian Quanzhou Aotu Precise Machine Co., Ltd.

11. Guilin Tebon Superhard Material Co., Ltd.

12. Hangzhou Deer King Industrial and Trading Co., Ltd.

13. Hangzhou Kingburg Import & Export Co., Ltd.

14. Hebei XMF Tools Group Co., Ltd.

15. Henan Huanghe Whirlwind Co., Ltd.

16. Henan Huanghe Whirlwind International Co., Ltd.

17. Hong Kong Hao Xin International Group Limited

18. Hubei Changjiang Precision Engineering Materials Technology Co., Ltd.

19. Hubei Sheng Bai Rui Diamond Tools Co., Ltd.

20. Huzhou Gu's Import & Export Co., Ltd.

21. Jiangsu Fengtai Single Entity *

22. Jiangsu Huachang Diamond Tools Manufacturing Co., Ltd.

23. Jiangsu Inter-China Group Corporation

24. Jiangsu Yaofeng Tools Co., Ltd.

25. Jiangsu Youhe Tool Manufacturer Co., Ltd.

26. Orient Gain International Limited

27. Pantos Logistics (HK) Company Limited

28. Protec Tools Co., Ltd.

29. Pujiang Talent Diamond Tools Co., Ltd.

30. Qingdao Hyosung Diamond Tools Co., Ltd.

31. Qingdao Shinhan Diamond Industrial Co., Ltd.

32. Qingyuan Shangtai Diamond Tools Co., Ltd.

33. Quanzhou Sunny Superhard Tools Co., Ltd.

34. Quanzhou Zhongzhi Diamond Tool Co., Ltd.

35. Rizhao Hein Saw Co., Ltd.

36. Saint-Gobain Abrasives (Shanghai) Co., Ltd.

37. Shanghai Jingquan Industrial Trade Co., Ltd.

38. Shanghai Starcraft Tools Co., Ltd.

39. Shanghai Vinon Tools Industrial Co.

40. Sino Tools Co., Ltd.

41. Wuhan Baiyi Diamond Tools Co., Ltd.

42. Wuhan Sadia Trading Co., Ltd.

43. Wuhan ZhaoHua Technology Co., Ltd.

44. Zhejiang Wanli Tools Group Co., Ltd.*

45. ZL Diamond Technology Co., Ltd.

46. ZL Diamond Tools Co., Ltd.

* Selected as mandatory respondents, these companies were found to be part of the China-wide entity in the instant review.

[FR Doc. 2021-26023 Filed 11-29-21; 8:45 am]

BILLING CODE 3510-DS-P